DEPARTMENT OF ENERGY

Federal Energy Regulatory Commission

[Docket No. CP10-497-000]

Venice Gathering System, LLC; Notice of Request Under Blanket Authorization

September 10, 2010.

Take notice that on September 3, 2010, Venice Gathering System, LLC (VGS), 1000 Louisiana, Suite 4300, Houston, Texas 77002, filed a prior notice request pursuant to sections 157.205 and 157.216 of the Federal Energy Regulatory Commission's regulations under the Natural Gas Act (NGA) and VGS's blanket certificate issued in Docket No. CP97-535-000, for authorization to abandon certain offshore facilities. Specifically, VGS seeks to abandon approximately 10.87 miles of 10- and 14-inch diameter pipeline (the ST177 Pipeline), approximately 0.1 mile of 12-inch diameter pipeline (the ST151 Pipeline), a related receiving station (the South Timbalier 177 Receiving Station), and appurtenances located offshore Louisiana by sale to Chevron USA Inc. (CUSA) pursuant to a Purchase and Sale Agreement by which the ownership of the Facilities will be transferred to CUSA. VGS states no service will be abandoned by the proposed abandonment, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (866) 208-3676 or TTY, (202) 502-8659.

Any questions regarding the application should be directed to counsel for Applicant, Mark K. Lewis, Esq., Bracewell & Giuliani, 2000 K St., NW., Suite 500, Washington, DC 20006, telephone no. (202) 828-5834, facsimile no. (202) 857-2110 and e-mail: Mark.Lewis@bglp.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-23214 Filed 9-16-10; 8:45 am]

BILLING CODE 6717-01-P